AGENCY FOR INTERNATIONAL DEVELOPMENT

Information Collection Request; 30-Day Notice and Request for Comments

AGENCY: U.S. Agency for International Development (USAID).

ACTION: Notice; request for comments.

SUMMARY: U.S. Agency for International Development (USAID), as part of its continuing effort to reduce paperwork and respondent burden, invites the general public and other Federal agencies to take this opportunity to comment on the following information collection, as required by the Paperwork Reduction Act of 1995. Comments are requested concerning whether the proposed collection of information is necessary for sustaining USAID-funded programming; the accuracy of USAID's estimate of the burden of the proposed collection of information; ways to enhance the quality, utility, and clarity of the information to be collected; and ways to minimize the burden of the collection of information on respondents.

DATES: All comments should be submitted within 30 calendar days from the date of this publication.

ADDRESSES: Interested persons are invited to submit comments regarding the proposed information collection to OMB (attention of the USAID Desk Officer);

FOR FURTHER INFORMATION CONTACT: Requests for additional information should be directed to Melissa Taylor via email to meltaylor@usaid.gov; or by phone 202-712-5307.

SUPPLEMENTARY INFORMATION: Title: Forms for reporting on contributions to USAID-funded activities by host country governments, non-governmental entities and implementing partners.

A modern, streamlined and responsive customer experience means: Raising government-wide customer experience to the average of the private sector service industry; developing indicators for high-impact Federal programs to monitor progress towards excellent customer experience and mature digital services; and providing the structure (including increasing transparency) and resources to ensure customer experience is a focal point for agency leadership.

Analysis: USAID will collect this information by electronic means when possible, as well as by mail, fax, telephone, technical discussions, and in-person interviews. USAID may also utilize observational techniques to collect this information.

Whether seeking a loan, Social Security benefits, veteran's benefits, or other services provided by the Federal Government, individuals and businesses expect Government customer services to be efficient and intuitive, just like services from leading private-sector organizations. Yet the 2016 American Consumer Satisfaction Index and the 2017 Forrester Federal Customer Experience Index show that, on average, Government services lag nine percentage points behind the private sector.

A modern, streamlined and responsive customer experience means: Raising government-wide customer experience to the average of the private sector service industry; developing indicators for high-impact Federal programs to monitor progress towards excellent customer experience and mature digital services; and providing the structure (including increasing transparency) and resources to ensure customer experience is a focal point for agency leadership. To support this, OMB Circular A-11 Section 280 established government-wide standards for mature customer experience organizations in government and measurement. To enable Federal programs to deliver the experience taxpayers deserve, they must undertake three general categories of activities: Conduct ongoing customer research, gather and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. USAID will limit its inquiries to data collections that solicit strictly voluntary opinions or responses. Steps will be taken to ensure anonymity of respondents in each activity covered by this request.

The results of the data collected will be used to improve the delivery of Federal services and programs. It will include the creation of personas, customer journey maps, and reports and summaries of customer feedback data and user insights. It will also provide government-wide data on customer experience that can be displayed on performance.gov to help build transparency and accountability of Federal programs to the customers they serve.

Method of Collection: USAID will collect this information by electronic means when possible, as well as by mail, fax, telephone, technical discussions, and in-person interviews. USAID may also utilize observational techniques to collect this information.

OMB Number: Not assigned.

Agency Form No.: N/A.

Agency: U.S. Agency for International Development (USAID).

Federal Register: This information was previously published in the Federal Register on October, 27th 2020 allowing for a 60-day public comment period under Document #2020-23629. USAID received no comments.

Affected Public: Collections will be targeted to the solicitation of opinions from respondents who have experience with the program or may have experience with the program in the near future. For the purposes of this request, “customers” are individuals, businesses, and organizations that interact with a Federal Government agency or program, either directly or via a Federal contractor or grantee. This could include individuals or households; businesses or other for-profit organizations; not-for-profit institutions; State, local or tribal governments; Federal government; and Universities.

Number of Respondents: Varied, depending on the data needed.

Expiration Date: Three years from issuance date.

Frequency: Varied, dependent upon the data needed.

Estimated number of hours: Varied, dependent upon the data collection method used.

Aubra E. Anthony,
Emerging Technology Advisor, Technology Division, Development, Democracy, and Innovation Bureau.

[FR Doc. 2021-04482 Filed 3-4-21; 8:45 am]

BILLING CODE P